DEPARTMENT OF COMMERCE

International Trade Administration

Request for Public Comment on the Wholly Formed Requirement for Qualifying Woven Fabric Under the Dominican Republic Earned Import Allowance Program

AGENCY: Department of Commerce, International Trade Administration, Office of Textiles and Apparel.

ACTION: Request for public comment on the wholly formed requirement for qualifying woven fabric under the Dominican Republic Earned Import Allowance Program.

SUMMARY: The Office of Textiles and Apparel (“OTEXA”) requests public comment on the wholly formed requirement of qualifying woven fabric under the Dominican Republic Earned Import Allowance Program.

DATES: Commerce will consider comments received by 5:00pm on May 4, 2009.

ADDRESSES: Comments should be addressed to: Janet Heinzen, Director, Office of Textiles and Apparel, Room 3001, United States Department of Commerce, Washington, D.C. 20230.

FOR FURTHER INFORMATION CONTACT: Robert Carrigg, Office of Textiles and Apparel, U.S. Department of Commerce, (202) 482-2573.

SUPPLEMENTARY INFORMATION:

Authority: Section 2(a) of the Andean Trade Preference Extension Act of 2008(“ATPEA”); Section 404(b)(2)(H) of the Dominican Republic-Central America-United States Free Trade Agreement Implementation Act, as amended; Imports of Certain Apparel Articles: Interim Procedures for the Implementation of the Earned Import Allowance Program Established Under the Andean Trade Preference Act of 2008 (74 FR 3563, published January 21, 2009) (“Interim Procedures”).

BACKGROUND:

On December 1, 2008 the Department of Commerce implemented provisions under the Andean Trade Preference Extension Act of 2008 (Public Law 110-436, 122 Stat. 4976) (“ATPEA”). Section 2 of the ATPEA amends Title IV of the Dominican Republic-Central America-United States Free Trade Agreement Implementation Act (Public Law 109-53; 119 Stat. 495). Specifically, Title IV of the Dominican Republic-Central America-United States Free Trade Agreement Implementation Act is amended by adding Section 404 creating a benefit for eligible apparel articles wholly assembled in the Dominican Republic that meet the requirements for a “2 for 1” earned import allowance. Section 2 of the ATPEA requires the Secretary of Commerce to establish a program to provide earned import allowance certificates to any producer or entity controlling production of eligible apparel articles in the Dominican Republic, such that apparel wholly assembled in the Dominican Republic from fabric or yarns, regardless of their source, and imported directly from the Dominican Republic, may enter the United States duty-free, pursuant to the satisfaction of the terms governing issuance of the earned import allowance certificate. The Secretary of Commerce has delegated his authority under the Act to implement and administer the Earned Import Allowance Program to the International Trade Administration's Office of Textiles and Apparel (“OTEXA”).

On January 21, 2009, OTEXA published interim procedures, 74 FR 3563, implementing Section 2 of the ATPEA. These procedures set forth the provisions OTEXA will follow in implementing the Earned Import Allowance Program. In accordance with these procedures, OTEXA will issue certificates to qualifying apparel producers to accompany imports of eligible apparel articles wholly formed in the Dominican Republic and exported from the Dominican Republic. Such certificates will be issued as long as there is a sufficient balance of square meter equivalents available as a result of the purchase of qualifying woven fabric. “Qualifying woven fabric” is defined in Section 2 of the ATPEA and in OTEXA's interim procedures as “woven fabric of cotton wholly formed in the United States from yarns wholly formed in the United States” and intended for production of apparel in the Dominican Republic. See Section 2(e) of the Interim Procedures; Section 404(c)(4) of the Dominican Republic-Central America-United States Free Trade Agreement Implementation Act, as amended by Section 2 of the Andean Trade Preference Extension Act of 2008. Neither the ATPEA nor the interim procedures define the term “wholly formed- as it is used in the definition of “qualifying woven fabric.”

OTEXA has received inquiries regarding the interpretation of “wholly formed” as a requirement under the definition of “qualifying woven fabric.” OTEXA currently interprets “wholly formed” within the definition of “qualifying woven fabric” to require that all production processes and finishing operations, starting with weaving and ending with a fabric ready for cutting or assembly without further processing, took place in the United States. OTEXA believes this interpretation to be consistent with similar definitions and interpretations of the term “wholly formed.”

Pursuant to the ATPEA, these procedures may be modified to address concerns that may arise as OTEXA gains experience in implementing them. See Section 2(b)(2)(H) of the ATPEA. OTEXA requests public comment on the “wholly formed” requirement in the definition of “qualifying woven fabric” for the purposes of the Dominican Republic Earned Import Allowance Program.

Comments must be in English, and must be received no later than May 4, 2009. Comments should be addressed to: Janet Heinzen, Director, Office of Textiles and Apparel, Room 3001, United States Department of Commerce, Washington, D.C. 20230.

Comments may be submitted in writing or electronically.

(1) An electronic mail (“email”) version of the comments must be either in PDF, Word, or Word-Perfect format, and sent to the following email address: OTEXA_DR2for1@mail.doc.gov.

(2) All comments submitted will be made available for public review on the Office of Textile and Apparel (“OTEXA”), Dominican Republic 2 x 1 website at http://otexa.ita.doc.gov/.

Dated: March 31, 2009.
Janet E. Heinzen,
Director, Office of Textiles and Apparel.

[FR Doc. E9-7525 Filed 4-2-09; 8:45 am]

BILLING CODE 3510-DS